DEPARTMENT OF JUSTICE

National Institute of Corrections

Solicitation for a Cooperative Agreement: Gender Responsive Management and Practice Assessment (Facility Version)

AGENCY: National Institute of Corrections, Department of Justice.

ACTION: Solicitation for a Cooperative Agreement.

SUMMARY: The National Institute of Corrections (NIC) is soliciting proposals from organizations, groups or individuals who would like to enter into a cooperative agreement with NIC to work with an advisory team of experts on gender-informed policy and practice to complete the design and initial testing of a women offender policy and practice assessment protocol.

DATES: Applications must be received by 4 p.m. EDT on Friday, August 22, 2008.

ADDRESSES: Mailed applications must be sent to: Director, National Institute of Corrections, 320 First St., NW., Room 5007, Washington, DC 20534. Applicants are encouraged to use Federal Express, UPS, or similar service to ensure delivery by the due date.

Hand delivered applications should be brought to 500 First Street, NW., Washington, DC 20534. At the front desk, dial 7-3106, extension 0 for pickup.

Faxed applications will not be accepted. Only e-mailed applications which are submitted via http://www.grants.gov will be accepted.

FOR FURTHER INFORMATION CONTACT: A copy of this announcement and the required application forms can be downloaded from the NIC Web page at http://www.nicic.gov. Click on “About Us” then “Cooperative Agreements” for announcements. Hard copies of the announcement can be obtained by calling Pam Davison at 1-800-995-6423 ext. 3-0484 or e-mail pdavison@bop.gov.

All technical or programmatic questions regarding this solicitation should be directed to Maureen Buell, Correctional Program Specialist, National Institute of Corrections. She can be reached by calling 202-514-0121 or by e-mail at mbuell@bop.gov.

SUPPLEMENTARY INFORMATION: Background: Over 18 months, a team of researchers and practitioners outlined the essential domains of an assessment protocol for gender-responsive policy, programs and operations for women offenders. To date the domains address: Agency/Organizational Philosophy; External/System/Stakeholder Support; Leadership and Management; Supervision and Staffing; Assessment/Classification; Case Planning and Transitional Planning; Core Treatment Programs; Services; Facility/Site; Behavior Motivation/Discipline; Culture; and QA/Assessment. Goals of the Project in the Development Phase: __The intention of the protocol is to provide specific guidance to agencies seeking to improve their management and treatment of women offenders to improve outcomes. These outcomes may include: Improved risk and needs assessment; targeting of critical factors through case management that will reduce institutional misconduct; revocation and re-offending; and improved interaction between staff and women in custody settings.

The team that developed the draft protocol package will serve as the core advisory team working with the successful applicant to complete the assessment protocol package.

Scope of Work and Deliverables: NIC will award one cooperative agreement for a 12 month period to work closely with the advisory team to complete the design of the assessment protocol package.

The Advisory Group will provide a completed tool with methodology and scoring parameters. The Recipient will: Develop a user manual for the protocol (e.g., expanded definitions and citations);

Pilot the instrument in up to three agencies in jail and prison settings. (It is anticipated that site visits will be 2-3 days in length and teams will generally be 2-person teams.);

Participate in a series of conference calls (or on-line platforms such as a Web-Ex system event) with sites applying as pilot locations;

Develop a resource guide to assist with development of recommendations and post-assessment implementation of gender-responsive practices. (Examples to include model programs and emerging practices.);

Work with an advisory group (5-8 members) to conduct focus groups with experts on women offender policy and programs to get feedback on the instrument, its key domains and definitions, and readiness of the field to use such an instrument;

Develop recommendations for evaluator training and certification; and

Meet face-to-face with the advisory group on 1-2 occasions. (Additional meetings can be conducted via conference call and/or on-line platforms).

Specific Requirements: Required Expertise: The successful applicant will need the conceptual skills and management capacity to complete the protocol design and standardization, manage the testing of the instrument in pilot sites conducting focus groups, and incorporate all the feedback into a final assessment protocol package.

Application Instruction: Please prepare a cooperative agreement proposal that consists of no more than 10 double spaced pages, excluding statements of organizational capacity and summaries of the experiences and capabilities of key project staff. Please submit summaries of experience and expertise and not full curricula vitae. The proposal must list all persons who will be involved in the project, including their role within the organization related to this project, areas of expertise related to this project, and complete contact information.

The proposal must: Define project objectives and methodologies for achieving project goals in the 12 months' period.

Provide a budget narrative that defines the relative use of resources for the key objective areas.

Give at least one example of your experience or your team's experience in delivering each of the following: Design of tools to assess policies and programs in correctional settings; summarize research on women offender risk and needs assessments, program assessments and the like.

Application Requirements: Applications should be concisely written, typed double spaced and reference the “NIC Application Number” and Title provided in this announcement. The package must include: OMB Standard Form 424, Application for Federal Assistance; a cover letter that identifies the audit agency responsible for the applicant's financial accounts as well as the audit period or fiscal year that the applicant operates under (e.g., July 1 through June 30); and an outline of projected costs. The following additional forms must also be included: OMB Standard Form 424A, Budget information—Non-Construction Programs; OMB Standard Form 424B, Assurances—Non-Construction Programs (available on http://www.grants.gov) And DOJ/NIC Certification Regarding Lobbying; Debarment, Suspension and Other Responsibility Matters; and the Drug-Free Workplace Requirements (available at http://www.nicic.gov/Downloads/PDF/certif-frm.pdf)

Applications may be submitted in hard copy, or electronically via http://www.grants.gov. If submitted in hard copy, there needs to be an original and six copies of the full proposal (program and budget narratives, application forms and assurances). The original should have the applicant's signature in blue ink.

Telephone Conference: A telephone conference will be conducted for persons receiving this solicitation and having a serious intent to respond on Friday, August 15 at 3 p.m. EDT. In the conference, the NIC project manager will respond to questions regarding the solicitation and expectations of work to be performed. Please notify Maureen Buell electronically by close of business (4 p.m. EDT) on Wednesday, August 13 regarding your interest in participating in the conference. You will be provided with a call-in number and instructions.

Authority: Public Law 93-415.

Funds Available: NIC is seeking the applicant's best ideas regarding accomplishment of the scope of work and the related costs for achieving the goals of this solicitation. The final budget and award amount will be negotiated between NIC and the successful applicant. NIC will fund one cooperative agreement for an estimated 12 month period for the development phase of this project. Funds may only be used for the activities that are linked to the desired outcomes of the project.

Eligibility of Applicants: An eligible applicant is any public or private agency, educational institution, organization, individual or team with expertise in the described areas.

Review Considerations: Applications received under this announcement will be subject to a 3 to 5 person NIC and joint funding agency Review Process.

Number of Awards: One.

NIC Application Number: 08P06. This number should appear as a reference line in the cover letter, in box 4a of Standard Form 424, and outside of the envelope in which the application is sent.

Catalog of Federal Domestic Assistance Number: 16.601.

Executive Order 12372: This project is not subject to the provisions of Executive Order 12372.

Resources: Link to draft protocol located at http://www.nicic.org/WomenOffenders.

Thomas J. Beauclair,
Deputy Director, National Institute of Corrections.

[FR Doc. E8-18420 Filed 8-8-08; 8:45 am]

BILLING CODE 4410-36-P